DEPARTMENT OF TRANSPORTATION

Surface Transportation Board

[Docket No. AB 1089X]

Mississippi & Skuna Valley Railroad, LLC—Abandonment Exemption—in Yalobusha and Calhoun Counties, MS

On October 18, 2011, Mississippi & Skuna Valley Railroad, LLC (MSV) filed with the Surface Transportation Board (Board) a petition under 49 U.S.C. 10502 for exemption from the provisions of 49 U.S.C. 10903 to abandon its entire 21-mile rail line extending between milepost 21.0 at Bruce Junction, and milepost 0.0 at Bruce, in Yalobusha and Calhoun Counties, Miss.¹ The line traverses United States Postal Service Zip Codes 38915 and 38922, and includes the stations of Bruce Junction (milepost 21.0) and Bruce (milepost 0.0).

¹ MSV acquired the line in November 2010. See Miss. & Skuna Valley R.R. LLC-Acq. & Operation Exemp.-Miss. & Skuna Valley R.R., FD 35429 (STB served Nov. 5, 2010). MSV states that no traffic was moving over the line at the time it was acquired from the Mississippi & Skuna Valley Railroad Company (MSVR), and before that no traffic had moved over the line since April 17, 2008.

MSV states that, based on information in its possession, the line does contain federally granted rights-of-way. Any documentation in MSV's possession will be made available promptly to those requesting it.

Where, as here, the carrier is abandoning its entire line, the Board generally does not impose labor protection under 49 U.S.C. 10502(g), unless the evidence indicates the existence of: (1) A corporate affiliate that will continue substantially similar rail operations; or (2) a corporate parent that will realize substantial financial benefits over and above relief from the burden of deficit operations by its subsidiary railroad. See Honey Creek R.R.-Aban. Exemp.-in Henry Cnty., Ind., AB 865X (STB served Aug. 20, 2004); Wellsville, Addison & Galeton R.R.-Aban. of Entire Line in Potter & Tioga Cntys., Pa., 354 I.C.C. 744 (1978); and Northampton & Bath R.R.-Aban. near Northampton and Bath Junction, in Northampton Cnty., Pa., 354 I.C.C. 784 (1978). Therefore, if the Board grants the petition for exemption, in the absence of a showing of one or more of these exceptions, labor protective conditions will not be imposed. The Board will consider and address comments on the petition, including comments regarding labor protection, in its final decision on the merits.

By issuing this notice, the Board is instituting an exemption proceeding pursuant to 49 U.S.C. 10502(b). A final decision will be issued by February 3, 2012.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than November 28, 2011. Each trail use request must be accompanied by a $250 filing fee. See 49 CFR 1002.2(f)(27).

All filings in response to this notice must refer to Docket No. AB 1089X, and must be sent to: (1) Surface Transportation Board, 395 E Street SW., Washington, DC 20423-0001; and (2) Melanie B. Yasbin, 600 Baltimore Ave., Suite 301, Towson, MD 21204. Replies to the petition are due on or before November 28, 2011.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-(800) 877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: November 2, 2011.
By the Board, Rachel D. Campbell, Director, Office of Proceedings.
Jeffrey Herzig,
Clearance Clerk.

[FR Doc. 2011-28757 Filed 11-4-11; 8:45 am]

BILLING CODE 4915-01-P